DEPARTMENT OF TRANSPORTATION

Federal Highway Administration

Notice of Final Federal Agency Actions on Transportation Project in Washington State

AGENCY: Federal Highway Administration (FHWA), U.S. DOT.

ACTION: Notice of Limitation on Claims for Judicial Review of Actions by FHWA and Other Federal Agencies.

SUMMARY: This notice announces actions taken by the FHWA and other Federal agencies that are final within the meaning of 23 U.S.C. 139(l)(1). The actions relate to the Interstate 90 (I-90) Snoqualmie Pass East Project, located between Hyak and Easton (Milepost [MP] 55.1 to 70.3) in Kittitas County, Washington. The action by FHWA is the Record of Decision (ROD), which selects avalanche bridges for construction on I-90 between MP 57.9 and 58.4. Actions by other Federal agencies include issuing amendments to previously issued permits.

DATES: By this notice, FHWA is advising the public of final agency actions subject to 23 U.S.C. 139(l)(1). A claim seeking judicial review of the Federal agency actions on the listed highway project will be barred unless the claim is filed on or before October 3, 2013. If the Federal law that authorizes judicial review of a claim provides a time period of less than 150 days for filing such claim, then that shorter time period still applies.

FOR FURTHER INFORMATION CONTACT: Liana Liu, Area Engineer, North Central and South Central Region, Federal Highway Administration, 711 South Capital Way, Suite 501, Olympia, WA 98501-0943, telephone: (360) 753-9553, email address: Liana.Liu@dot.gov; or Jason Smith, Environmental Manager, South Central Region, Washington State Department of Transportation, 2809 Rudkin Road, Union Gap, WA 98903, telephone: (509) 577-1750, email address: SmithJW@wsdot.wa.gov.

SUPPLEMENTARY INFORMATION: Notice is hereby given that the FHWA and other Federal agencies have taken final agency actions related to the I-90 Snoqualmie Pass East Project in the State of Washington. FHWA, in cooperation with the Washington State Department of Transportation (WSDOT), prepared a Draft Environmental Impact Statement (EIS) (FHWA-WA-EIS-05-01-D) and Final EIS (FHWA-WA-EIS-05-01-F) for proposed improvements to a 15-mile portion of I-90 immediately east of Snoqualmie Pass in the Cascade Mountains, from Hyak at MP 55.1 to Easton Hill at MP 70.3. FHWA issued a ROD for the project in October 2008 and construction has continued since 2009. In September 2011, the contractor selected to construct the portion of the project from MP 57.34 to 60.23 along Keechelus Lake proposed a design modification that meets the project's purpose and need while reducing construction and maintenance costs. FHWA and WSDOT prepared a Draft Supplemental EIS (FHWA-WA-EIS-05-01-DS) to evaluate the design modification, which includes construction of eastbound and westbound avalanche bridges instead of the new, expanded snowshed that was originally part of the I-90 project Selected Alternative.

The actions by the Federal agencies, and the laws under which such actions were taken, are described in the Final Supplemental EIS (FHWA-WA-EIS-05-01-FS) and ROD issued concurrently on March 12, 2013, and in other documents in the FHWA administrative record. These documents are available by contacting FHWA or WSDOT at the addresses provided above. The combined Final Supplemental EIS and ROD can also be downloaded electronically from the project Web site at www.wsdot.wa.gov/projects/I90/SnoqualmiePassEast, or viewed at area public libraries.

This notice applies to all Federal agency decisions on the project as of the issuance date of this notice and all laws under which such actions were taken, including but not limited to:

General: National Environmental Policy Act [42 U.S.C. 4321-4351]; Federal-Aid Highway Act [23 U.S.C. 109].

Wildlife: Endangered Species Act [16 U.S.C. 1531-1544]; Migratory Bird Treaty Act [16 U.S.C. 703-712].

(Catalog of Federal Domestic Assistance Program No. 20.205, Highway Research, Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Issued on: April 29, 2013.
Daniel M. Mathis,
Division Administrator, Olympia, WA.

[FR Doc. 2013-10661 Filed 5-3-13; 8:45 am]

BILLING CODE 4910-RY-P